DEPARTMENT OF AGRICULTURE

Forest Service

Intermountain Region, Payette National Forest, Council Ranger District; Idaho; Mill Creek—Council Mountain Landscape Restoration Project

AGENCY: Forest Service, USDA.

ACTION: Notice of intent to prepare an environmental impact statement.

SUMMARY: The Council Ranger District of the Payette National Forest will prepare an environmental impact statement (EIS) for the Mill Creek—Council Mountain Landscape Restoration Project. The approximate 51,900 acre project area is located about two miles east of Council, Idaho. The Mill Creek—Council Mountain Landscape Restoration Project proposes to improve wildlife habitat, reduce wildland fire hazard, encourage woody biomass utilization, contribute to the economic vitality of the communities adjacent to the Payette National Forest, and improve watershed conditions through a variety of activities including commercial and noncommercial vegetation management and road system modifications and maintenance.

DATES: Comments concerning the scope of the analysis must be received by July 6, 2010. The draft environmental impact statement is expected December 2010 and the final environmental impact statement is expected May 2011.

ADDRESSES: Send written comments to P.O. Box 567, Council, ID 83612. Comments may also be sent via e-mail to comments-intermtn-payette-council@fs.fed.us, or via facsimile to 208-253-0109.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Steve Penny, Project Team Leader, 208-253-0164. Individuals who use telecommunication devices for the deaf (TDD) may call the Federal Information Relay Service (FIRS) at 1-800-877-8339 between 8 a.m. and 8 p.m., Eastern Time, Monday through Friday.

SUPPLEMENTARY INFORMATION:

Purpose and Need for Action

The Purpose of the project is to: (1) Improve wildlife habitat for white-headed woodpeckers, by restoring appropriate forested stands to historical range of variability, and improve habitat for other wildlife species as appropriate; (2) reduce wildland fire hazard in forested stands with conditions that depart from the historical range of variability; (3) encourage woody biomass utilization as a revenue source to for restoration goals; and (4) contribute to the economic vitality of the communities adjacent to the Payette NF.

Land management activities over the last century, such as fire suppression, timber harvest (especially large diameter ponderosa pine) and road construction have affected forest, grassland, shrubland plant species composition and structure, and watershed conditions. The need for this action is move landscape conditions toward the historical range of variability, and to meet 2003 Payette National Forest Land and Resource Management Plan (Forest Plan) direction.

Proposed Action

The Proposed Action includes the following restoration treatments: (1) Harvesting of sawtimber and biomass (woody material not meeting sawtimber specifications) on 4,800 acres by thinning from below to reduce tree density, crown spacing, and ladder fuels followed by underburning to promote ponderosa pine and other fire-resistant tree species reproduction, reduce non-fire resistant vegetation, and reduce fuel accumulation; (2) harvesting sawtimber and biomass on 700 acres by regeneration harvest treatments followed by prescribed burning to promote fire resistant tree species reproduction, reduce non-fire resistant vegetation, and reduce fuel accumulation; (3) underburn 2,800 acres of additional timber vegetated stands not proposed for harvest and use planned wildland fire on 12,100 acres of grass, brush, scattered timber or quaking aspen stands; and (4) thinning of 4,500 acres of tree plantations which would include some removal of biomass. Harvesting activities would be accomplished using tractor, tractor/jammer, and skyline methods. Skid trails would be designated to concentrate use in a limited amount of areas and reclaimed following harvest. There would be no harvest within 30' of intermittent streams or within 120' of perennial streams. There would be no equipment entry in riparian conservation areas (RCAs) except on existing roads or skid trails approved of in advance by the District Hydrologist or Fisheries Biologist.

To facilitate access, approximately 6 miles of temporary roads would be constructed where needed to access harvest units and landings and decommissioned after use. Approximately 5 miles of existing non-National Forest System roads would be converted to National Forest Service System roads. There would be no permanent road construction in the project area with this proposal.

To improve watershed conditions and fisheries habitat, the proposed action includes: (1) The upgrade of culverts that are undersized and restrict passage of fish and other aquatic organisms, (2) road improvement such as improving drainage and surfacing and (3) the decommission of old roadbeds that are not needed for future management or public access to reduce levels of soils impacts, and reduce drainage and erosion problems.

Lead and Cooperating Agencies

Adams County, Idaho has expressed interest becoming a cooperating agency for this project and intends to submit such a request to the Payette National Forest in late May, 2010.

Responsible Official

Payette National Forest Supervisor, Suzanne C. Rainville.

Nature of Decision To Be Made

Based on the purpose and need for the proposed action, the Responsible Official will determine whether to proceed with the action as proposed, as modified by another alternative or not at all. If an action alternative is selected, the Responsible Official will determine what design features, mitigation measures and monitoring to require.

ADDRESSES: Project information is available on the Payette National Forest Web site at http://www.fs.fed.us/r4/payette/publications/index.shtml (click on the Mill Creek—Council Mountain Landscape Restoration Project).

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Dated: May 26, 2010.
Jake Strohmeyer,
Acting Forest Supervisor.

[FR Doc. 2010-13174 Filed 6-2-10; 8:45 am]

BILLING CODE 3410-11-M